DEPARTMENT OF TRANSPORTATION

Federal Transit Administration

Environmental Impact Statement for the Proposed Implementation of Rail Passenger Service on the Cotton Belt Corridor

AGENCY: Federal Transit Administration, DOT.

ACTION: Notice of intent to prepare an environmental impact statement.

SUMMARY: The Federal Transit Administration (FTA), as the Federal lead agency, and the Dallas Area Rapid Transit (DART) intend to prepare an Environmental Impact Statement (EIS) to study the implementation of rail passenger service on the 26-mile long Cotton Belt Corridor from Dallas-Fort Worth International Airport (DFWIA) in Tarrant County, Texas, through a large portion of northwest Dallas County, to the existing DART Red Line Light Rail Transit (LRT) corridor in the Cities of Plano and Richardson in Collin County, Texas. The primary purpose of the Cotton Belt Corridor Regional Rail Project is to provide passenger rail connections that will improve mobility, accessibility and system linkages to major employment, population and activity centers. The Federal Aviation Administration (FAA), having jurisdiction over airports, is being requested to be a cooperating agency in this study. The purpose of this Notice is to alert interested parties regarding the plan to prepare the EIS, to provide information on the nature of the proposed transit project, to invite participation in the EIS process, including comments on the scope of the EIS proposed in this notice, and to announce that public scoping meetings will be conducted.

DATES: Comment Due Date: Written comments on the scope of the EIS, including the preliminary statement of purpose and need, the alternatives to be considered, the impacts to be evaluated, and the methodologies to be used in the evaluations should be sent to DART by August 30, 2010. See ADDRESSES below for the address to which written public comments may be sent. Scoping Meetings: The public scoping meeting will be held on

• Thursday, July 29, 2010, at 6:30 p.m. at the Addison Conference Center, 15650 Addison Road, Addison, TX.

Please notify the DART Community Affairs representative at (214) 749-2590 at least one week in advance of the meeting date if language translation or hearing-impaired signing is needed. The building used for the scoping meeting is accessible to persons with disabilities.

Scoping materials describing the project purpose and need and the alternatives proposed for analysis will be available at the meetings and on the DART Web site at http://www.dart.org/cottonbelt.

An interagency scoping meeting will be held on Wednesday, July 28, 2010 at 10 a.m. at DART Headquarters, in the Board Room, located at 1401 Pacific Avenue in Dallas, TX. Representatives of Native American tribal governments and of all Federal, State, regional and local agencies that may have an interest in any aspect of the project will be invited to be participating or cooperating agencies, as appropriate.

ADDRESSES: Written comments on the project scope should be sent to John Hoppie, Project Manager, Dallas Area Rapid Transit, P.O. Box 660163, Dallas, TX 75266-7213. Telephone: (214) 749-2525, Fax: (214) 749-3844, or via e-mail: jhoppie@dart.org. Comments may also be offered at the public scoping meetings identified under DATES above.

FOR FURTHER INFORMATION CONTACT: Ms. Lynn Hayes, Community Planner, Federal Transit Administration, Region 6, 819 Taylor Street, Room 8A36, Fort Worth, Texas 76102, Telephone: (817) 978-0550; Fax (817) 978-0575, or e-mail: Lynn.Hayes@dot.gov.

SUPPLEMENTARY INFORMATION:

I. Scoping and Background

FTA and DART invite all interested individuals, organizations, public agencies, and Native American Tribes to comment on the scope of the EIS, specifically on the proposed project's purpose and need, the alternatives to be evaluated that may address the purpose and need, the impacts of the alternatives considered, and the evaluation methods to be used. Comments should address (1) feasible alternatives that may better achieve the project's need and purpose with fewer adverse impacts, and (2) any significant environmental impacts relating to the alternatives. To ensure that these issues are identified, the scoping meetings will begin with a formal presentation followed by the opportunity for the public to comment on the scope of the EIS. Oral and written comments may be given at the scoping meetings; a court reporter will record all comments. Written comments may be submitted at the meeting or may be mailed to the project manager at the address in ADDRESSES above. Following the scoping process, public outreach activities will continue throughout the duration of the work on the EIS as described in FTA Procedures below.

National Environmental Policy Act (NEPA) “scoping” (Title 40 of the Code of Federal Regulations (CFR) 1501.7) has specific and fairly limited objectives, one of which is to identify the significant issues associated with alternatives that will be examined in detail in the document, while simultaneously limiting consideration and development of issues that are not truly significant. It is in the NEPA scoping process that potentially significant environmental impacts—those that give rise to the need to prepare an environmental impact statement—should be identified; impacts that are deemed not to be significant need not be developed extensively in the context of the impact statement, thereby keeping the statement focused on impacts of consequence consistent with the ultimate objectives of the NEPA implementing regulations—“to make the environmental impact statement process more useful to decision makers and the public; and to reduce paperwork and the accumulation of extraneous background data, in order to emphasize the need to focus on real environmental issues and alternatives * * * [by requiring] impact statements to be concise, clear, and to the point, and supported by evidence that agencies have made the necessary environmental analyses.” Executive Order 11991, of May 24, 1977. Transit projects may also generate environmental benefits; these should be highlighted as well—the impact statement process should draw attention to positive impacts, not just negative impacts.

Once the scope of the environmental study, including significant environmental issues to be addressed, is settled, an annotated outline of the document will be prepared and shared with interested agencies and the public. The outline serves at least three worthy purposes, including (1) documenting the results of the scoping process; (2) contributing to the transparency of the process; and (3) providing a clear roadmap for concise development of the environmental document.

Since 1983, the Cotton Belt Corridor has been included in several transportation service plans and the North Central Texas Council of Governments (NCTCOG) Metropolitan Transportation Plan (MTP). In 1999 and 2000 DART identified the North Crosstown Corridor which included the Cotton Belt Corridor as a key transportation corridor. In 2006, DART conducted a higher level of alternatives analysis and completed an existing conditions report of the North Crosstown Corridor, as part of its 2030 Transit System Plan. The Cotton Belt Corridor was identified as the preferred alignment for transit service between DFWIA and the DART Red Line. NCTCOG also included the Cotton Belt Corridor in the region's long range transportation plan, Mobility 2030: The Metropolitan Transportation Plan for the Dallas-Fort Worth Area—2009 Amendment. In April 2010, the NCTCOG completed a Conceptual Engineering and Funding Study. This study provided background information on the existing environment, and compared various combinations of interlining, Red Line termini, minor alignment deviations, and station locations on the Cotton Belt Corridor. The feasibility study will be used to inform and guide the scoping process and EIS development for the proposed project.

II. Preliminary Statement of Purpose and Need for the Project

The Cotton Belt Regional Rail Corridor's primary purpose is to provide passenger rail connections that will improve mobility, accessibility and system linkages to major employment, population and activity centers in the northern part of the DART Service Area. The implementation of passenger rail within the Cotton Belt Corridor would also provide an alternative to traffic congestion within the planning area. The connection of three LRT lines and two planned regional rail lines (Denton County Transportation Authority [DCTA] A-Train and Fort Worth Transportation Authority's [The T's] Southwest-to-Northeast [SW2NE] Project) makes regional connectivity a key component of the Cotton Belt Corridor. The Cotton Belt Corridor also offers opportunities to connect with the proposed BNSF regional rail corridor between Frisco and Irving, with a connection in downtown Carrollton.

Regional demand for travel in the planning area is projected to increase along with congestion. Implementation would improve transit performance in the planning area by offering a new, more reliable service. By providing a new transportation option, peak period congestion would be reduced, providing improvements to regional air quality.

III. Project Location and Environmental Setting

The proposed project would occur in the State of Texas, in portions of Tarrant, Dallas and Collin Counties, within the Cotton Belt Corridor. The project proposes a new regional rail line to provide express rail passenger service between DFWIA, through the cities of Grapevine, Coppell, Carrollton, Addison, and Dallas to the existing DART Red Line LRT corridor in the cities of Plano and Richardson, Texas. Land use varies along the corridor and includes residential, commercial, government/institutional, transportation, and industrial, as well as underdeveloped areas.

The proposed project would lie within right-of-way purchased by DART in 1990 and designated as a preserved corridor for future passenger rail service. The corridor has been included in various DART and NCTCOG planning documents since 1983 as an alignment alternative for passenger rail. The right-of-way width varies throughout the corridor, but is generally 100 feet.

Three freight companies operate within the corridor through agreements on tracks owned by DART: The Fort Worth and Western Railroad (FWWR), the Kansas City Southern (KCS) Railroad, and the Dallas Garland Northeastern (DGNO) short-line freight rail service. The Union Pacific (UP) Railroad has overhead rights but does not currently operate within the corridor. On January 22, 2010, the Surface Transportation Board (STB) approved freight abandonment in the north Dallas area from Knoll Trail in Dallas, Texas to Renner Junction in Richardson, Texas.

IV. Possible Alternatives

Alternatives to be reviewed in the EIS include a No-Build Alternative and the Build Alternative, which may include design options and various station locations.

The No Build Alternative assumes a 2030 condition of land use and demographics. It includes transit capital and service improvements that are programmed to be implemented by DART and other transit providers in the study area, as well as all other planned, programmed, and funded transportation projects for the planning year 2030.

The Build Alternative would consist of “express” rail passenger service within the Cotton Belt Corridor using a passenger rail vehicle that complies with the requirements of the Federal Railroad Administration (FRA) safety standards (FRA-compliant vehicle). Express service is defined as a 20-minute peak and 60-minute off peak headway. A base alignment and station locations will be examined along with various options for the eastern terminus, stations, passing siding/double-track locations, and possible horizontal and vertical alignment deviations at strategic locations.

The base project would extend eastward from DFWIA within existing railroad right-of-way approximately 26 miles to DART's Red Line LRT corridor in the cities of Plano and Richardson. At its western terminus, the project would interface with DART's future Orange Line LRT service, which extends from DFWIA through Irving to downtown Dallas, and to the planned Fort Worth Transportation Authority's (The T's) SW2NE Regional Rail Corridor service from downtown Fort Worth to DFWIA. The T completed a Draft EIS (DEIS) for the SW2NE project and the Final EIS is expected to be complete in 2010. The SW2NE project is anticipated to receive environmental clearance for the section of the Cotton Belt from north of DFWIA to Fort Worth, and for a new rail corridor extending from the Cotton Belt south into DFWIA Terminal B.

At the eastern terminus, the base corridor would interface with the Red Line where a new LRT station would be located at the intersection of the two corridors. Options for the Cotton Belt corridor eastern terminus include: Turning south to connect to the existing DART Red Line Bush Turnpike Station, Turning north to connect to the existing Red Line Downtown Plano Station (which would allow an option for service to continue further north into Plano or McKinney), or extending further east on the Cotton Belt to terminate near Shiloh Road in Plano. Additional deviations from the base alignment elsewhere along the corridor may also be considered.

The base corridor includes a total of 54 roadway crossings (44 at-grade; 10 grade-separated) including major roadway facilities such as State Highway (SH) 121, Interstate Highway (IH) 635, the President George Bush Turnpike, IH 35E, the Dallas North Tollway (DNT) and US 75 (North Central Expressway). It is anticipated the Cotton Belt would interface with six other major passenger rail lines, including DART's Orange, Green and Red LRT lines, a proposed BNSF Corridor service that would interface with the Cotton Belt in downtown Carrollton, a proposed extension of the DCTA A-Train service to downtown Carrollton, and the planned SW2NE rail corridor connection at DFWIA.

Several new rail stations would be provided, depending upon the build alternative selected. Station platforms would be approximately 300 to 500 feet in length. Potential station locations include: DFWIA, North Lake, Downtown Carrollton (Green Line interface), Addison (existing Transit Center), Knoll Trail, Preston Road (State Highway 289), Renner Village, UTD—Synergy Park, the Red Line Interface, and Shiloh Road.

Additional alternatives that emerge during scoping that reasonably address the project's purpose and need and that have not been previously evaluated will be considered.

V. Possible Effects

The purpose of this EIS process is to study, in a public setting, the potentially significant effects of the proposed project and its alternatives on the quality of the human environment. Areas of investigation for transit projects generally include, but are not limited to: Land use, development potential, land acquisition and displacements, environmental justice, historic resources, visual and aesthetic qualities, air quality, noise and vibration, energy use, safety and security, and ecosystems, including threatened and endangered species; investigation may reveal that the proposed project will not affect or affect substantially many of those areas. Measures to avoid, minimize, or mitigate any significant adverse impacts will be identified.

VI. FTA Procedures

The regulations implementing NEPA, as well as provisions of SAFETEA-LU, call for public involvement in the NEPA process. Section 6002 of SAFETEA-LU provides the following guidance: (1) Extend an invitation to other Federal and non-Federal agencies and Native American tribes that may have an interest in becoming a participating agency for the proposed project; (2) Provide an opportunity for involvement by participating agencies and the public to help define the purpose and need for a proposed project, as well as the range of alternatives for consideration in the environmental documentation; and (3) Establish a plan for coordinating public and agency participation in, and comment on, the environmental review process. An invitation to become a participating or cooperating agency, with scoping materials appended, will be extended to other Federal and non-Federal agencies and Native American tribes that may have an interest in the proposed project. Any Federal or non-Federal agency or Native American tribe interested in the proposed project that does not receive an invitation to become a participating agency should notify the project manager, as identified in the ADDRESSES section above.

A comprehensive public and agency involvement program (PAIP) has been developed and will be implemented as part of the DEIS. The PAIP will include: Agency and public scoping meetings; community-wide public information meetings; public hearings; informational briefings to stakeholder groups, elected officials, and other local and regional officials; and information dissemination via a project Web site and newsletters. The PAIP will also involve advisory committees and other stakeholder groups to obtain input on issues, concerns, and advise on neighborhood and transit oriented development issues.

The EIS will be prepared in accordance with NEPA and its implementing regulations issued by the Council on Environmental Quality (40 CFR Parts 1500-1508) and with the FTA/Federal Highway Administration regulations “Environmental Impact and Related Procedures” (23 CFR Part 771).

After its approval, the DEIS will be available for public and agency review and comment. A public hearing will be held on the DEIS. The Final EIS (FEIS) will consider comments received during the DEIS public review and will identify the preferred alternative. Opportunity for additional public comment will be provided throughout all phases of project development.

VII. Paperwork Reduction

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of environmental documents is received (preferably in advance of printing), FTA and its grantees will distribute only the executive summary of the environmental document together with a Compact Disc of the complete environmental document. A complete printed set of the environmental document will be available for review at DART's offices and elsewhere; an electronic copy of the complete environmental document will also be available on DART's Web page.

VIII. Other

DART and the NCTCOG, which is the metropolitan planning organization for the Dallas-Fort Worth region, have entered into a Memorandum of Understanding (MOU) concerning the identification of potential funding sources to implement passenger rail service on the Cotton Belt Corridor. The purpose of the MOU is to outline the roles and responsibilities of each party. DART would be responsible for the preliminary engineering, environmental review process, planning, design and implementation activities. NCTCOG would be responsible for identification of funding sources and for developing a financial plan sufficient to design, build and implement passenger rail service on the Cotton Belt Corridor.

Various funding alternatives are under consideration. The proposed project may be funded through a combination of local funds and funds apportioned to the NCTCOG from the FTA Urbanized Area Formula Program (UAFP) funding under 49 U.S.C 5307 (Section 15). This program (49 U.S.C. 5307) makes Federal resources available to urbanized areas and to Governors for transit capital and operating assistance in urbanized areas and for transportation related planning. NCTCOG may consider requesting additional funding to help construct the project through various state and Federal programs. NCTCOG is also seeking innovative financing alternatives that may include private sector partners.

The EIS will be prepared in accordance with NEPA (42 U.S.C. 4321 et seq.) of 1969 and the regulations implementing NEPA set forth in 40 CFR Parts 1500-1508 and 23 CFR Part 771, as well as provisions of the enacted Safe, Accountable, Flexible, Efficient Transportation Equity Act: A Legacy for Users (SAFETEA-LU).

Issued on: June 29, 2010.
Robert C. Patrick,
Federal Transit Administration, Region VI, Ft. Worth, TX.

[FR Doc. 2010-16599 Filed 7-7-10; 8:45 am]

BILLING CODE P